DEPARTMENT OF THE INTERIOR

Fish and Wildlife Service

[FWS-R1-R-2009-N0050; 1265-0000-10137-S3]

Columbia National Wildlife Refuge, Adams and Grant Counties, WA

AGENCY: U.S. Fish and Wildlife Service, Interior.

ACTION: Notice of intent to prepare a comprehensive conservation plan and environmental assessment; announcement of a public open house meeting; request for comments.

SUMMARY: We, the U.S. Fish and Wildlife Service (Service), intend to prepare a comprehensive conservation plan (CCP) for the Columbia National Wildlife Refuge (refuge) located in Adams and Grant Counties, Washington. We will also prepare an environmental assessment (EA) to evaluate the potential effects of various CCP alternatives. This notice also announces a public open house meeting; see SUPPLEMENTARY INFORMATION for the details. We issue this notice in compliance with our CCP policy to advise the public and other agencies of our intentions and to obtain suggestions and information on the scope of issues we will consider during the CCP planning process.

DATES: Please provide written comments by July 13, 2009. A public open house meeting will be held on June 16, 2009. See SUPPLEMENTARY INFORMATION for details.

ADDRESSES: Additional information concerning the refuge and the CCP is available on the Internet at http://www.fws.gov/mcriver/. Send your comments or requests for more information to us as follows:

• Mail: Columbia National Wildlife Refuge Comments, U.S. Fish and Wildlife Service, 64 Maple Street, Burbank, WA 99323.

• Fax: (509) 488-0705.

• E-mail: mcriver@fws.gov. Include “Columbia NWR CCP Scoping Comments” in the subject line of the message. If you would like to be added to the refuge's CCP mailing list, please include your mailing address and specify whether you want to receive a hard copy or CD-ROM of the draft and final plans.

FOR FURTHER INFORMATION CONTACT: Randy Hill, Columbia National Wildlife Refuge, telephone (509) 488-2668.

SUPPLEMENTARY INFORMATION: The National Wildlife Refuge System (Refuge System) Administration Act of 1966, as amended by the National Wildlife Refuge System Improvement Act of 1997 (16 U.S.C. 668dd-668ee), requires us to develop a CCP for each national wildlife refuge and to update it every 15 years. The purpose of developing a CCP is to provide refuge managers a 15-year strategy for achieving refuge purposes and contributing toward the mission of the Refuge System consistent with sound principles of fish and wildlife management, conservation, legal mandates, and our policies. In addition to outlining broad management direction for conserving refuge wildlife and habitats, we also identify wildlife-dependent recreational opportunities available to the public that are compatible with the refuge's establishing purposes and the mission of the Refuge System. These opportunities include hunting, fishing, wildlife observation and photography, environmental education and interpretation.

We will prepare an EA in accordance with the National Environmental Policy Act of 1969 (NEPA), as amended (42 U.S.C. 4321 et seq.); NEPA Regulations (40 CFR parts 1500-1508); other appropriate Federal laws and regulations; and our policies and procedures for compliance with those laws and regulations.

Each unit of the Refuge System is established to fulfill specific purposes. We use these purposes to develop and prioritize management goals and objectives within the Refuge System mission and to guide which public uses will occur on a refuge.

Public Involvement

As part of the CCP planning process, we will provide opportunities for the public, refuge neighbors, interested individuals and organizations, Tribes, elected officials, and local, State, and Federal government and nongovernment stakeholders and partners to participate in our planning process. At this time, we are requesting input in the form of issues, concerns, ideas and suggestions for the future management of the Columbia Refuge.

Information About CCPs

During the CCP planning process, we will consider many elements of refuge management, including wildlife, habitat, and visitor services management. Public input during the planning process is essential. The CCP will describe the refuge purposes and desired conditions for the refuge and the long-term conservation goals, objectives and strategies for fulfilling refuge purposes and achieving desired conditions.

Refuge Overview

Columbia Refuge was established “as a refuge and breeding ground for migratory birds and other wildlife,” and “for use as an inviolate sanctuary, or for any other management purpose, for migratory birds.” It fills an important role in the management of mallard, northern pintail, and lesser Canada goose populations during migration and wintering periods, and is the primary migratory stopover area for the Pacific Coast population of the lesser sandhill crane. The refuge covers almost 30,000 acres in the arid Columbia Basin of south-central Washington State straddling Crab Creek, between Potholes Reservoir and the Columbia River in both Grant and Adams Counties. The refuge is divided into six management units primarily arranged according to land type. Most of the refuge is within the Drumheller Channels National Natural Landmark. It is also located along the Pacific Flyway and has become a particularly important stop-over and wintering ground for migratory birds and waterfowl. In addition, cackling geese, sandhill cranes, and neotropical birds consume the refuge's grain crops. Birds of prey, such as red-tailed hawks, hunt for rodents and other small mammals living in the refuge's agricultural fields.

Various visitor services and activities take place on the refuge, including hiking, boating, fishing, hunting, wildlife observation and photography, nature and cultural resources interpretation, and environmental education.

Preliminary Issues and Concerns

We have identified the following preliminary issues, concerns, and opportunities that we may address in the CCP. We may identify additional issues during public scoping.

• How can we best protect and restore populations of priority species on the refuge?

• How can we best achieve optimal habitat conditions on the refuge for priority species?

• How can we protect refuge habitats from invasive species, wildfire risks, over-grazing, vandalism, and other disturbances and threats, and restore habitat values?

• Which compatible wildlife-dependent recreation opportunities on the refuge should be expanded, developed, or modified?

• What are the refuge's land acquisition priorities within its approved boundary, and should boundary expansion be considered?

• How can we meet refuge staffing needs?

Public Open House Meeting

A public open house meeting will be held on June 16, 2009, from 5:30 p.m. to 8 p.m. in the City of Othello's Municipal Building (City Hall), City Council Chambers, 500 East Main Street, Othello, WA 99344, to provide information on the CCP and receive public comments. Opportunities for public input will be announced throughout the CCP planning process.

Public Availability of Comments

Before including your address, phone number, e-mail address, or other personal identifying information in your comment, you should be aware that your entire comment—including your personal identifying information—may be made publicly available at any time. While you can ask us in your comment to withhold your personal identifying information from public review, we cannot guarantee that we will be able to do so.

All comments and materials we receive from individuals on our NEPA documents become part of the official public record. We will handle requests for such comments in accordance with the Freedom of Information Act, NEPA, and Department of the Interior and Service policies and procedures.

Dated: May 19, 2009.
Don Weathers,
Acting Regional Director, Region 1, Portland, Oregon.

[FR Doc. E9-12390 Filed 5-27-09; 8:45 am]

BILLING CODE 4310-55-P